DEPARTMENT OF THE INTERIOR

National Park Service

Route 66 Corridor Preservation Program Advisory Council

AGENCY: National Park Service, Interior.

ACTION: Notice of meeting.

SUMMARY: Notice is hereby given in accordance with the Federal Advisory Committee Act that the Route 66 Corridor Preservation Program Advisory Council will hold a meeting November 1 and 2, 2007, in Pasadena, California.

DATES: November 1 and 2, 2007.

ADDRESSES: 1. The November 1 meeting will be held from 8:30 to 11:30 a.m. at the Saga Motor Hotel, 1633 East Colorado Boulevard, Pasadena, CA.

2. The November 2 meeting will be held from 9 a.m. to 5 p.m. at the City of Pasadena Permit Center Hearing Room, 175 North Garfield Avenue, Pasadena, CA.

3. Written statements should be sent to Michael Taylor, Route 66 Corridor Preservation Program Manager, National Trails System—Santa Fe, National Park Service, P.O. Box 728, Santa Fe, NM 87504-0728.

FOR FURTHER INFORMATION CONTACT: Michael Taylor, 505-988-6742.

SUPPLEMENTARY INFORMATION: The Route 66 Corridor Preservation Program Advisory Council was established to consult with the Secretary of the Interior on matters relating to the Route 66 Corridor Preservation Program, including recommendations for ways to best preserve important properties along Route 66, grant and cost-share awards to eligible applicants owning or administering historic properties along the Route 66 Corridor, and technical assistance provided by the NPS to partners along the route.

The matters to be discussed include:

• Committee report on accountability and measurement;

• committee report on education and outreach;

• committee report on preservation management;

• strategic media initiative;

• report on preliminary economic impacts of heritage tourism along Route 66;

• report on motel preservation initiatives along Route 66.

The meeting will be open to the public. However, facilities and space for accommodating members of the public are limited, and persons will be accommodated on a first-come, first-served basis. The public comment period is scheduled from 9 a.m.-10 a.m. on Friday, November 2. Any member of the public may file a written statement concerning the matters to be discussed with Michael Taylor, Route 66 Corridor Preservation Program Manager.

Minutes of the meeting will be available for public inspection at the Route 66 Corridor Preservation Program Office, located in Room 122, Old Santa Fe Trail Building, 1100 Old Santa Fe Trail, Santa Fe, NM.

An exceptional set of circumstances involving the charter renewal for this advisory council has resulted in the publication of this notice less than 15 days before the date of the meeting. Cancellation of the meeting at this time would impose an undue hardship for the representatives from 8 different states who have made arrangements to travel to the meeting. We believe the public interest would be best served by holding the meeting and having the Council perform its duties on the scheduled dates.

Dated: October 15, 2007.
Bernard C. Fagan,
Deputy Chief, National Park Service Office of Policy.

[FR Doc. E7-20955 Filed 10-23-07; 8:45 am]

BILLING CODE 4310-70-P